DEPARTMENT OF COMMERCE

International Trade Administration

[A-428-852, A-533-924, A-588-882, A-421-817, A-518-001, A-274-810]

Melamine From Germany, India, Japan, the Netherlands, Qatar, and Trinidad and Tobago: Postponement of Preliminary Determinations in the Less-Than-Fair-Value Investigations

AGENCY: Enforcement and Compliance, International Trade Administration, Department of Commerce.

DATES: Applicable June 24, 2024.

FOR FURTHER INFORMATION CONTACT: Noah Wetzel (Germany), Myrna Lobo (India), George McMahon (Japan), Fred Baker (the Netherlands), Gorden Struck (Qatar), or Brittany Bauer (Trinidad and Tobago), AD/CVD Operations, Offices II, V, VI, VII, and VIII, Enforcement and Compliance, International Trade Administration, U.S. Department of Commerce, 1401 Constitution Avenue NW, Washington, DC 20230; telephone: (202) 482-7466, (202) 482-2371, (202) 482-1167, (202) 482-2924, (202) 482-8151, and (202) 482-3860, respectively.

SUPPLEMENTARY INFORMATION:

Background

On March 5, 2024, the U.S. Department of Commerce (Commerce) initiated less-than-fair-value (LTFV) investigations of imports of melamine from Germany, India, Japan, the Netherlands, Qatar, and Trinidad and Tobago.¹ Currently, the preliminary determinations are due no later than July 23, 2024. The period of investigation is January 1, 2023, through December 31, 2023.

¹ See Melamine from Germany, India, Japan, the Netherlands, Qatar, and Trinidad and Tobago: Initiation of Less-Than-Fair-Value Investigations, 89 FR 17413 (March 11, 2024).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 13, 2024, the petitioner ² submitted a timely request that Commerce postpone the preliminary determinations in the LTFV investigations of imports of melamine from Germany, India, Japan, the Netherlands, Qatar, and Trinidad and Tobago. The petitioners stated that “{w}ith regard to the Melamine from India and Melamine from Qatar investigations, postponement is warranted so that Commerce can evaluate fully the initial questionnaire responses submitted by the mandatory respondents and solicit supplemental information as necessary,” and the petitioner “seeks postponement of all six antidumping investigations in order to keep them on the same schedule and avoid the need to split the cases at the International Trade Commission.” ³

² The petitioner is Cornerstone Chemical Company.

³ See Petitioners' Letter, “Petitioner's Request for Postponement of the Preliminary Determinations,” dated June 13, 2024.

For the reasons stated above and because there are no compelling reasons to deny the request, in accordance with section 733(c)(1)(A) of the Act and 19 CFR 351.205(e), Commerce is postponing the deadline for the preliminary determinations by 50 days (i.e., to 190 days after the date on which these investigations were initiated). As a result, Commerce will issue its preliminary determinations in the above-referenced investigations no later than September 11, 2024. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: June 18, 2024.
Ryan Majerus,
Deputy Assistant Secretary for Policy and Negotiations, performing the non-exclusive functions and duties of the Assistant Secretary for Enforcement and Compliance.

[FR Doc. 2024-13790 Filed 6-21-24; 8:45 am]

BILLING CODE 3510-DS-P